ENVIRONMENTAL PROTECTION AGENCY

[FRL OP-OFA-193]

Environmental Impact Statements; Notice of Availability

Responsible Agency: Office of Federal Activities, General Information 202-564-5632 or https://www.epa.gov/nepa.

Weekly receipt of Environmental Impact Statements (EIS) Filed August 18, 2025 10 a.m. EST Through August 25, 2025 10 a.m. EST Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20250121, Draft, TxDOT, TX, Downtown 10, Comment Period Ends: 10/14/2025, Contact: Doug Booher 512-416-2663.

EIS No. 20250122, Final, UDOT, UT, Kimball Junction, Contact: Carissa Watanabe 503-939-3798. Under 23 U.S.C. 139(n)(2), FHWA has issued a single document that consists of a final environmental impact statement and record of decision.

EIS No. 20250123, Draft, USAF, OK, T-7A Recapitalization at Vance Air Force Base, Oklahoma, Comment Period Ends: 10/14/2025, Contact: Chinling Chen 580-213-7273.

EIS No. 20250124, Final Supplement, NRC, PA, Generic Environmental Impact Statement for License Renewal of Nuclear Plants, Supplement 10, Second Renewal, Regarding Subsequent License Renewal for Peach Bottom Atomic Power Station Units 2 and 3, Supplement 1, Final Report, Review Period Ends: 09/29/2025, Contact: Kevin T. Folk 301-415-6944.

EIS No. 20250125, Final, NRC, AL, Generic Environmental Impact Statement for License Renewal of Nuclear Plants Supplement 21, Second Renewal Regarding Subsequent License Renewal of Browns Ferry Nuclear Power Plant, Units 1, 2, and 3 Final Report, Review Period Ends: 09/29/2025, Contact: Jessica Umana 301-415-5207.

EIS No. 20250126, Final, BOEM, LA, Gulf of America Regional Outer Continental Shelf Oil and Gas Lease Sales and Post-Lease Activities Final Programmatic Environmental Impact Statement, Review Period Ends: 09/29/2025, Contact: Helen Rucker 504-736-2421.

Amended Notice:

EIS No. 20220161, Draft, APHIS, NAT, WITHDRAWN—The State University of New York College of Environmental Science and Forestry Petition (19-309-01p) for Determination of Nonregulated Status for Blight-Tolerant Darling 58 American Chestnut (Castanea dentata), Contact: Cindy Eck 301-851-3892. Revision to FR Notice Published 11/20/2022; Officially Withdrawn per request of the submitting agency.

EIS No. 20240048, Draft, APHIS, NAT, WITHDRAWN—Monsanto Petition (19-316-01p) for Determination of Nonregulated Status for Dicamba, Glufosinate, Quizalofop, and 2,4-D Tolerant MON 87429 Maize with Tissue-Specific Glyphosate Tolerance Facilitating the Production of Hybrid Maize Seed [OECD Unique Identifier: MON-87429-9], Contact: Joseph Tangredi 301-851-4061. Revision to FR Notice Published 3/22/2024; Officially Withdrawn per request of the submitting agency.

Dated: August 25, 2025.
Nancy Abrams,
Associate Director, Office of Federal Activities.

[FR Doc. 2025-16631 Filed 8-28-25; 8:45 am]

BILLING CODE 6560-50-P